FEDERAL COMMUNICATIONS COMMISSION

47 CFR Part 73

[DA 04-1023; MB Docket No. 04-150; RM-10957]

Radio Broadcasting Services; Burlington and Trenton, NJ

AGENCY: Federal Communications Commission.

ACTION: Proposed rule.

SUMMARY: This document requests comments on a petition for rulemaking filed by Nassau Broadcasting II, L.L.C. requesting the reallotment of Channel 248B from Trenton, New Jersey, to Burlington, New Jersey, and modification of the license for Station WPST to reflect the changes. Channel 249B can be allotted to Burlington at coordinates 40-14-05 and 74-46-02. The proposal complies with the provisions of section 1.420(i) of the Commission's Rules, and therefore, the Commission will not accept competing expressions of interest in the use of Channel 248B at Burlington.

DATES: Comments must be filed on or before June 10, 2004, and reply comments on or before June 25, 2004.

ADDRESSES: Office of the Secretary, Federal Communications Commission, 445 Twelfth Street, SW., Room TW-A325, Washington, DC 20554. In addition to filing comments with the FCC, interested parties should serve the petitioner's counsel, as follows: Mark N. Lipp, Scott Woodworth, Vinson & Elkins, L.L.P., 1455 Pennsylvania Avenue, Suite 600, Washington, DC 20004-1008.

FOR FURTHER INFORMATION CONTACT: Kathleen Scheuerle, Media Bureau, (202) 418-2180.

SUPPLEMENTARY INFORMATION: This is a synopsis of the Commission's Notice of Proposed Rule Making, MB Docket No. 04-150, adopted April 14, 2004, and released April 19, 2004. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under New Jersey, is amended by adding Burlington, Channel 248B and by removing Channel 248B at Trenton.

Federal Communications Commission.
John A. Karousos,
Assistant Chief, Audio Division, Media Bureau.

[FR Doc. 04-10583 Filed 5-7-04; 8:45 am]

BILLING CODE 6712-01-P